GENERAL SERVICES ADMINISTRATION

Office of Governmentwide Policy; Cancellation of an Optional Form by the Department of State

AGENCY: Office of Governmentwide Policy, GSA.

ACTION: Notice.

SUMMARY: The Department of State is cancelling the following Optional Form:

OF 253, Diplomatic Pouch Certification and Receipt.

DATES: Effective November 6, 2003.

FOR FURTHER INFORMATION CONTACT: Mr. Charles Cunningham, Department of State, 202-312-9605.

Dated: October 27, 2003.
Barbara M. Williams,
Deputy Standard and Optional Forms Management Officer, General Services Administration.

[FR Doc. 03-27887 Filed 11-5-03; 8:45 am]

BILLING CODE 6820-34-M